DEPARTMENT OF ENERGY

Federal Energy Regulatory Commission

[Docket No. IC21-10-000]

Commission Information Collection Activities (FERC-725F); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC 725F (Mandatory Reliability Standard for Nuclear Plant Interface Coordination).

DATES: Comments on the collection of information are due April 19, 2021.

ADDRESSES: You may submit comments (identified by Docket No. IC21-10-000) by either of the following methods:

• eFiling at Commission's Website: http://www.ferc.gov.

• U.S. Postal Service Mail: Persons unable to file electronically may mail similar pleadings to the Federal Energy Regulatory Commission, Office of the Secretary, 888 First Street NE, Washington, DC 20426

• Delivery of filings other than by eFiling or the U.S. Postal Service should be delivered to Federal Energy Regulatory Commission, Office of the Secretary, 12225 Wilkins Avenue, Rockville, Maryland 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION: Title: FERC 725F, Mandatory Reliability Standard for Nuclear Plant Interface Coordination.

OMB Control No.: 1902-0249.

Type of Request: Three-year extension of the FERC-725F information collection requirements with no changes to the current reporting requirements.

Abstract: The Commission requires the information collected by the FERC-725F to implement the statutory provisions of section 215 of the Federal Power Act (FPA) (16 U.S.C. 824o). On August 8, 2005, the Electricity Modernization Act of 2005, which is Title XII, Subtitle A, of the Energy Policy Act of 2005 (EPAct 2005), was enacted into law.¹ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.²

¹ Energy Policy Act of 2005, Public Law 109-58, Title XII, Subtitle A, 119 Stat. 594, 941 (2005), 16 U.S.C. 824o.

² 16 U.S.C. 824o(e)(3).

On February 3, 2006, the Commission issued Order No. 672, implementing section 215 of the FPA.³ Pursuant to Order No. 672, the Commission certified one organization, North American Electric Reliability Corporation (NERC), as the ERO. The Reliability Standards developed by the ERO and approved by the Commission apply to users, owners and operators of the Bulk-Power System as set forth in each Reliability Standard.

³ Rules Concerning Certification of the Electric Reliability Organization; and Procedures for the Establishment, Approval, and Enforcement of Electric Reliability Standards, Order No. 672, FERC Stats. & Regs. 31,204, order on reh'g, Order No. 672-A, FERC Stats. & Regs. 31,212 (2006).

On November 19, 2007, NERC filed its petition for Commission approval of the Nuclear Plant Interface Coordination Reliability Standard, designated NUC-001-1. In Order No. 716, issued October 16, 2008, the Commission approved the standard while also directing certain revisions.⁴ Revised Reliability Standard, NUC-001-2, was filed with the Commission by NERC in August 2009 and subsequently approved by the Commission January 21, 2010.⁵ On November 4, 2014, in Docket No. RD14-13, the Commission approved revised Reliability Standard NUC-001-3.⁶ On February 21, 2020 NERC filed a petition in Docket No. RD20-4 to revise Reliability Standard NUC-001-3 to NUC-0001-4.

⁴ Mandatory Reliability Standard for Nuclear Plant Interface Coordination, Order No. 716, 125 FERC 61,065, at P 189 & n.90 (2008), order on reh'g, Order No. 716-A, 126 FERC 61,122 (2009).

⁵ North American Electric Reliability Corporation, 130 FERC 61,051 (2010). When the revised Reliability Standard was approved, the Commission did not go to OMB for approval. It is assumed that the changes made did not substantively affect the information collection and therefore a formal submission to OMB was not needed.

⁶ The Letter Order is posted at https://elibrary.ferc.gov/idmws/common/OpenNat.asp?fileID=13675845.

The purpose of Reliability Standard NUC-001-4 is to require “coordination between nuclear plant generator operators and transmission entities for the purpose of ensuring nuclear plant safe operation and shutdown.” ⁷ The Nuclear Reliability Standard applies to nuclear plant generator operators (generally nuclear power plant owners and operators, including licensees) and “transmission entities,” defined in the Reliability Standard as including a nuclear plant's suppliers of off-site power and related transmission and distribution services. To account for the variations in nuclear plant design and grid interconnection characteristics, the Reliability Standard defines transmission entities as “all entities that are responsible for providing services related to Nuclear Plant Interface Requirements (NPIRs),” and lists eleven types of functional entities (heretofore described as “transmission entities”) that could provide services related to NPIRs.⁸

⁷ See Reliability Standard NUC-001-4 at http://www.nerc.com/files/NUC-001-4.pdf.

⁸ The list of functional entities consists of transmission operators, transmission owners, transmission planners, transmission service providers, balancing authorities, reliability coordinators, planning authorities, distribution providers, load-serving entities, generator owners, and generator operators.

FERC-725F information collection requirements include establishing and maintaining interface agreements, including record retention requirements. These agreements are not filed with FERC, but with the appropriate entities as established by the Reliability Standard.

Type of Respondent: Nuclear operators, nuclear plants, transmission entities

Estimate of Annual Burden: ⁹ The Commission estimates the average annual burden and cost ¹⁰ for this information collection as follows:

⁹ Burden is defined as the total time, effort, or financial resources expended by persons to generate, maintain, retain, or disclose or provide information to or for a Federal agency. Refer to 5 CFR 1320.3 for additional information.

¹⁰ The wage and benefit figures are based on the Bureau of Labor Statistics (BLS) data (at https://www.bls.gov/oes/current/naics2_22.htm) for May 2019 for Sector 22, Utilities. (The benefits figure is based on BLS data as of May 2020 http://www.bls.gov/news.release/ecec.nr0.htm).) The estimated hourly cost (for wages plus benefits) for reporting requirements is $85.41/hour, based on the average for an electrical engineer (occupation code 17-2071, $70.19/hour), legal (occupation code 23-0000, $142.65/hour), and office and administrative staff (occupation code 43-0000, $43.38/hour). The estimated hourly cost (wages plus benefits) for record keeping is $34.79/hour for a file clerk (occupation code 43-4071).

¹¹ This figure of 120 transmission entities is based on the assumption that each agreement will be between 1 nuclear plant and 2 transmission entities (57 × 2 = 114). However, there is some double counting in this figure because some transmission entities may be party to multiple agreements with multiple nuclear plants. The double counting does not affect the burden estimate, and the correct number of unique respondents will be reported to OMB.

¹² The 171 respondents affected by the reporting requirements are also affected by the recordkeeping requirements.

¹³ The reporting requirements have not changed. The decrease in the number of respondents is due to: (a) Normal fluctuations in industry (e.g., companies merging and splitting, and coming into and going out of business), and (b) no new agreements being issued due to the lack of new nuclear plants being developed.

FERC-725F | Number of respondents | Annual number of responses per respondent | Total number of responses | Average burden hrs. & cost per response ($) (rounded) | Total annual burden hrs. & total annual cost ($) (rounded) | Cost per respondent ($) (rounded)
| (1) | (2) | (1) * (2) = (3) | (4) | (3) * (4) = (5) | (5) ÷ (1)
New or Modifications to Existing Agreements (Reporting) | 57 nuclear plants + 114 transmission entities ¹¹ | 2 | 342 | 66.67 hrs.; $5,694 | 22,801 hrs.; $1,947,433 | $11,388
New or Modifications to Existing Agreements (Record Keeping) | 57 nuclear plants + 114 transmission entities | 2 | 342 | 6.67 hrs.; $232 | 2,281 hrs.; $79,356 | 464.07
Total |  |  | ¹² 342 |  | 25,082 hrs.; ¹³ $2,026,789 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 9, 2021.
Nathaniel J. Davis, Sr.,
Deputy Secretary.

[FR Doc. 2021-03040 Filed 2-12-21; 8:45 am]

BILLING CODE 6717-01-P